COMMISSION ON CIVIL RIGHTS

Sunshine Act Notice

AGENCY: United States Commission on Civil Rights.

ACTION: Notice of briefing and meeting.

Date and Time: Friday, December 12, 2008; 9:30 a.m.

Place: 624 Ninth Street, NW., Rm. 540, Washington, DC 20425.

Briefing Agenda

Topic: Specifying English as the Common Language in the Workplace: Every Employer's Right or a Violation of Federal Law?

I. Introductory Remarks by Chairman.

II. Speakers' Presentations.

III. Questions by Commissioners and Staff Director.

IV. Adjourn Briefing.

Meeting Agenda

I. Approval of Agenda.

II. Approval of Minutes of November 7, 2008 Meeting.

III. Announcements.

IV. Staff Director's Report.

V. Program Planning.

• Update on Status of 2009 Statutory Report.

• Briefing Report on Minorities in Special Education.

VI. Future Agenda Items.

VII. Adjourn.

Contact Person for Further Information: Lenore Ostrowsky, Acting Chief, Public Affairs Unit, (202) 376-8582.

Dated: December 2, 2008.
David Blackwood,
General Counsel.

[FR Doc. E8-28900 Filed 12-2-08; 4:15 pm]

BILLING CODE 6335-01-P